FEDERAL COMMUNICATIONS COMMISSION

47 CFR Part 73

[MB Docket No. 09-115, RM-11543; DA 11-1502]

Television Broadcasting Services; Fond du Lac, WI

AGENCY: Federal Communications Commission.

ACTION: Proposed rule.

SUMMARY: In this document, the Commission denies a petition for reconsideration of an August 12, 2009 Report and Order changing the allotted channel for station WWAZ-TV, Fond du Lac, Wisconsin, from channel 44 to channel 5. The petitioner stated that the staff, in granting the original channel change, cited erroneous loss-of-service figures. The petitioner further argues that the primary technical justification for creation of this loss area was not raised until the reply comment stage, and that the record further does not support the technical justification. The order finds that the staff requested a re-engineered proposal that would result in the replacement translators covering the projected analog loss area. The document finds that the re-engineered translators sufficiently address any loss of service, and further finds that the public interest is served by substituting channel 5 for channel 44 at Fond du Lac because it permitted WLS-TV, an ABC network affiliate in Chicago, Illinois, to move from its post-transition channel 7 to channel 44, resulting in the restoration of ABC network service to numerous viewers that had lost service after the transition of WLS-TV to digital operations. Finally, the document notes that the petitioner's own engineer had recognized potential technical problems associated with WWAZ-TV's digital operations on channel 44.

ADDRESSES: Federal Communications Commission, Office of the Secretary, 445 12th Street SW., Washington, DC 20554.

FOR FURTHER INFORMATION CONTACT: David Brown, david.brown@fcc.gov, Media Bureau, (202) 418-1600.

SUPPLEMENTARY INFORMATION: This is a synopsis of the Memorandum Opinion and Order, MB Docket No. 09-115, adopted September 6, 2011 by the Video Division of the Federal Communications Commission, and released September 8, 2011. For the reasons discussed above, the Federal Communications Commission denies the petition for reconsideration of an order changing the allotted channel for station WWAZ-TV, Fond du Lac, Wisconsin. The full text of this document is available for public inspection and copying during normal business hours in the FCC's Reference Information Center at Portals II, CY-A257, 445 12th Street SW., Washington, DC 20554. This document will also be available via ECFS (http://www.fcc.gov/cgb/ecfs/). (Documents will be available electronically in ASCII, Word 97, and/or Adobe Acrobat.) This document may be purchased from the Commission's duplicating contractor, Best Copy and Printing, Inc., 445 12th Street SW., Room CY-B402, Washington, DC 20554, telephone 1-(800) 478-3160 or via email http://www.BCPIWEB.com. To request this document in accessible formats (computer diskettes, large print, audio recording, and Braille), send an email to fcc504@fcc.gov or call the Commission's Consumer and Governmental Affairs Bureau at (202) 418-0530 (voice), (202) 418-0432 (TTY). This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

Provisions of the Regulatory Flexibility Act of 1980 do not apply to this proceeding. Members of the public should note that from the time a Notice of Proposed Rule Making is issued until the matter is no longer subject to Commission consideration or court review, all ex parte contacts (other than ex parte presentations exempt under 47 CFR 1.1204(a)) are prohibited in Commission proceedings, such as this one, which involve channel allotments. See 47 CFR 1.1208 for rules governing restricted proceedings.

For information regarding proper filing procedures for comments, see 47 CFR 1.415 and 1.420.

Federal Communications Commission.
Barbara A. Kreisman,
Chief, Video Division, Media Bureau.

[FR Doc. 2011-28452 Filed 11-2-11; 8:45 am]

BILLING CODE 6712-01-P